DEPARTMENT OF COMMERCE

International Trade Administration

[A-403-808, A-351-866]

High Purity Dissolving Pulp From Brazil and Norway: Postponement of Preliminary Determinations in the Less-Than-Fair-Value Investigations

AGENCY: Enforcement and Compliance, International Trade Administration, Department of Commerce.

DATES: Applicable February 18, 2026.

FOR FURTHER INFORMATION CONTACT: Ian Riggs at (202) 482-3810 (Brazil); or Braeden Lowe at (202) 482-9124 (Norway), AD/CVD Operations, Enforcement and Compliance, International Trade Administration, U.S. Department of Commerce, 1401 Constitution Avenue NW, Washington, DC 20230.

SUPPLEMENTARY INFORMATION:

Background

On September 2, 2025, the U.S. Department of Commerce (Commerce) initiated less-than-fair-value (LTFV) investigations of imports of high purity dissolving pulp from Brazil and Norway.¹ Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Currently, the preliminary determinations are due no later than March 30, 2026.

¹ See High Purity Dissolving Pulp from Brazil and Norway: Initiation of Less-Than-Fair-Value Investigations, 90 FR 43168 (September 8, 2025) (Initiation Notice).

² See Memorandum, “Deadlines Affected by the Shutdown of the Federal Government,” dated November 14, 2025.

³ See Memorandum, “Tolling of all Case Deadlines,” dated November 24, 2025.

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On January 20, 2026, the petitioners submitted a timely request that Commerce postpone the preliminary determinations in these LTFV investigations.⁴ The petitioners stated that they request postponement “given the size and complexity of the investigations, the extensions of time {Commerce} has already granted to respondents, and the fact that in the Norway investigation {Commerce} has yet to select a comparison country market.” ⁵ Additionally, the petitioners stated that an extension of time will allow the petitioners “adequate time to comment on responses and will allow {Commerce} adequate time to issue supplemental questionnaires and to conduct thorough analyses of all issues identified.” ⁶

⁴ The petitioners are Rayonier Advanced Materials, Inc. and the United Steel, Paper and Forestry, Rubber, Manufacturing, Energy, Allied Industrial and Service Workers International Union, AFL-CIO. See Petitioners' Letter, “Petitioners' Request to Fully Extend the Preliminary Determinations for Antidumping Duty Investigations,” dated January 20, 2026.

⁶ Id.

For the reasons stated above and because there are no compelling reasons to deny the request, Commerce, in accordance with section 733(c)(1)(A) of the Act, is postponing the deadline for the preliminary determinations by 50 days.⁷ As a result, Commerce will issue its preliminary determinations no later than May 18, 2026. In accordance with section 735(a)(1) of the Act and 19 CFR 351.210(b)(1), the deadline for the final determinations of these investigations will continue to be 75 days after the date of the preliminary determinations, unless postponed at a later date.

⁷ Commerce is extending the time period for the preliminary determinations to 190 days after the initiation date of this investigation (i.e., September 2, 2025). However, because Commerce tolled certain deadlines in this investigation as a result of the Federal Government shutdown, the deadline is now May 18, 2026.

This notice is issued and published pursuant to section 733(c)(2) of the Act and 19 CFR 351.205(f)(1).

Dated: February 11, 2026.
Christopher Abbott,
Deputy Assistant Secretary for Policy and Negotiations, performing the non-exclusive functions and duties of the Assistant Secretary for Enforcement and Compliance.

[FR Doc. 2026-03196 Filed 2-17-26; 8:45 am]

BILLING CODE 3510-DS-P